DEPARTMENT OF HEALTH AND HUMAN SERVICES

Health Resources and Services Administration

Regional AIDS Education and Training Centers Program Supplemental Award

AGENCY: Health Resources and Services Administration (HRSA), Department of Health and Human Services.

ACTION: Announcing a Supplemental Award for Ryan White HIV/AIDS Program (RWHAP), Regional AIDS Education and Training Center (AETC) award recipient, University of Massachusetts (UMass).

SUMMARY: HRSA will provide supplemental funding to UMass, a current Regional AETC Program award recipient, for a 1-year period of performance and 1-year budget period to support a program designed to train internal and family medicine residents to specialize in HIV treatment and care management. This training program is critically needed, as it will help increase the number of primary HIV care providers available to diagnose, treat, and medically manage people with HIV and address urgent needs stemming from the HIV care workforce shortage.

FOR FURTHER INFORMATION CONTACT: Suzanne Abo, Management Analyst, Office of Program Support, HIV/AIDS Bureau, HRSA, at sabo@hrsa.gov and (301) 945-4537.

SUPPLEMENTARY INFORMATION:

Intended Recipient(s) of the Award: UMass, a Regional AETC Program award recipient that currently has the capacity and an existing program designed to train medical residents in HIV care to help increase the number of providers who can serve people with HIV and address the critical provider shortage.

Amount of Non-Competitive Award: One award for $450,000.

Project Period: July 1, 2023, to June 30, 2024.

Assistance Listing (CFDA) Number: 93.145.

Award Instrument: Supplement for HIV/AIDS Workforce Development and Training Services.

Authority: Section 2692(a) (42 U.S.C. 300ff-111(a)) and section 2693 (42 U.S.C. 300ff-121) of the Public Health Service Act.

Table 1—Recipients and Award Amounts
Grant No. | Award recipient name | City, state | Award amount
6 U1OHA29294-08-03 | University of Massachusetts | MA | $450,000

Justification: The HIV care workforce continues to decrease, directly impacting the ability of RWHAP to meet the goals and objectives of the Ending the HIV Epidemic in the United States by 2030. Experts indicate that fewer medical trainees are entering the field of HIV and that workforce trends are not keeping pace with the rates of HIV infection. Given the overall HIV/AIDS care workforce challenges presented, it is imperative that purposeful action is taken to support the current workforce. According to a recent HIV care provider study conducted by the RWHAP National Coordinating Resource Center, in addition to the current workforce shortages, 10.5 percent of the current providers surveyed will be leaving HIV care in 5 years, and an additional 7.3 percent of those surveyed will be decreasing the number of patients with HIV to whom they provide care.

In November 2022, UMass, a current award recipient of the Regional AETC Program, submitted an unsolicited proposal to HRSA's HIV/AIDS Bureau to support a program designed to train internal and family medicine residents to specialize in HIV care and management. The HIV Pathways Consortium Program (Pathways) is designed to increase the number of primary care providers that have the knowledge and expertise to provide direct care services and treatment to people with HIV and train other primary care providers. UMass has implemented Pathways for several years and has been able to demonstrate impact on the HIV care workforce. Pathways aligns with the purpose and scope of work for the Regional AETC Program as described in the current Fiscal Year 2019 Notice of Funding Opportunity (HRSA 19-035).

The proposal underwent extensive review per the guidelines established by HHS and HRSA for a recipient initiated supplemental funding proposal. Having met the HHS guidelines, further review determined that the proposal aligns with the current activities of the AETC Program, is of significant benefit to the government, and meets the legislative intent of the Ryan White HIV/AIDS AETC Program. In addition, recipient initiated supplemental funding proposals require a technical review and are not required to undergo a competitive process.

This award will greatly enhance the ability of the AETC program to target and increase the number of trained HIV physician providers, including those trained at minority-serving institutions. In addition, Pathways will quickly introduce new providers into the HIV care workforce, address critical workforce shortages, and aid the federal government in reaching the goal to end HIV by 2030. The proposed project will be a new activity under UMass' current Regional AETC Program award. HRSA will award $450,000 in supplemental funding to UMass for a 1-year project and budget period.

Carole Johnson,
Administrator.

[FR Doc. 2023-10302 Filed 5-12-23; 8:45 am]

BILLING CODE 4165-15-P